SMALL BUSINESS ADMINISTRATION

13 CFR Part 121

Waiver of the Nonmanufacturer Rule

AGENCY: Small Business Administration (SBA).

ACTION: Final rule.

SUMMARY: The SBA has been made aware of the existence of small business manufacturers for Hand and Edge Tool Manufacturing, North American Industry Classification System (NAICS) 332212. Notices to waive the Nonmanufacturer Rule appeared in the Federal Register on August 28, 2002 (67 FR 55179) and July 27, 2002 (67 FR 47755). Comments from these notices were received from large and small business manufacturers. Our knowledge of the existence of small business manufacturers requires us to deny the waiver of the Nonmanufacturer for Hand and Edge Tool Manufacturing, NAICS 332212.

EFFECTIVE DATE: September 30, 2002.

FOR FURTHER INFORMATION CONTACT: Edith G. Butler, Program Analyst, U.S. Small Business Administration, 409 3rd Street, SW., Washington DC 20416, Tel: (202) 619-0422.

SUPPLEMENTARY INFORMATION: Public Law 100-656, enacted on November 15, 1988, incorporated into the Small Business Act the previously existing regulation that recipients of Federal contracts set aside for small businesses or SBA 8(a) Program procurement must provide the product of a small business manufacturer or processor, if the recipient is other than the actual manufacturer or processor. This requirement is commonly referred to as the Nonmanufacturer Rule. The SBA regulations imposing this requirement are found at 13 CFR 121.906(b) and 121.1106(b). Section 303(h) of the law provides for waiver of this requirement by SBA for any “class of products” for which there are no small business manufacturers or processors in the Federal market. To be considered available to participate in the Federal market on these classes of products, a small business manufacturer must have submitted a proposal for a contract solicitation or received a contract from the Federal government within the last 24 months. The SBA defines “class of products” based on two coding systems. The first is the Office of Management and Budget North American Industry Classification System. The second is the Product and Service Code established by the Federal Procurement Data System.

Linda G. Williams,
Associate Administrator for Government Contracting.

[FR Doc. 02-25263 Filed 10-4-02; 8:45 am]

BILLING CODE 8025-01-P